DEPARTMENT OF THE INTERIOR

National Park Service

[NPS-MWR-INDU-0312-8330; 6065-4000-409]

Final White-tailed Deer Management Plan/Environmental Impact Statement for Indiana Dunes National Lakeshore

AGENCY: National Park Service, Interior.

ACTION: Notice of Availability.

SUMMARY: The National Park Service announces the availability of the Final White-tailed Deer Management Plan/Environmental Impact Statement, Indiana Dunes National Lakeshore, Indiana.

DATES: The Final White-tailed Deer Management Plan/Environmental Impact Statement (Plan/EIS) will remain available for public review for 30 days following the publishing of the notice of availability in the Federal Register by the Environmental Protection Agency.

ADDRESSES: The Plan/EIS is available via the Internet through the NPS Planning, Environment, and Public Comment Web site (http://parkplanning.nps.gov/INDU); click on the link for the Plan/EIS. You may also obtain a copy of the Plan/EIS by sending a request to Randy Knutson, Wildlife Biologist, Indiana Dunes National Lakeshore, 1100 North Mineral Springs Road, Porter, Indiana 46304; telephone 219-395-1550. A copy may also be picked-up in person at the National Lakeshore's headquarters at the address listed above.

FOR FURTHER INFORMATION CONTACT: Superintendent Constantine Dillon, Indiana Dunes National Lakeshore, at the address above or by telephone at 219-395-1699.

SUPPLEMENTARY INFORMATION: This Plan/EIS describes four alternatives for the management of deer at the National Lakeshore. Action is needed at this time to ensure that the local deer population does not become a dominant force that negatively influences ecosystem components within the National Lakeshore, such as sensitive vegetation or other wildlife. Impacts to these National Lakeshore resources would compromise its purpose to preserve the exceptional biodiversity found within its boundaries. The National Lakeshore staff currently implements resource management actions to protect other resources but no specific deer management plan exists.

Under Alternative A (no action), current deer management actions (including limited fencing, limited use of repellents, and inventorying and monitoring efforts) would continue; no new deer management actions would be taken. Alternative B would include all actions described under Alternative A, but would also incorporate non-lethal actions to possibly reduce deer numbers in the lakeshore. The additional actions would include the construction of additional small- and new large-scale exclosures, more extensive use of repellents in areas where fenced exclosures would not be appropriate or feasible, and phasing in reproductive control of does when there is a federally approved fertility control agent for application to free-ranging populations that provides multi-year (three to five years) efficacy for does. Alternative C would include all actions described under Alternative A, but would also incorporate a direct reduction of the deer herd size through sharpshooting and capture/euthanasia, where appropriate. Alternative D (the preferred alternative) would also include all the actions described under Alternative A, but would incorporate a combination of specific lethal and non-lethal actions from Alternatives B and C. These actions would include the reduction of the deer herd through sharpshooting, in combination with capture/euthanasia and phasing in reproductive control of does (as described in alternative B) for longer-term maintenance of lower herd numbers when there is a federally approved fertility control agent for application to free-ranging populations that provides multi-year (three to five years) efficacy for does.

The potential environmental consequences of the alternatives are addressed for vegetation, soils and water quality, white-tailed deer, other wildlife and wildlife habitat, sensitive and rare species, archeological resources, cultural landscapes, visitor use and experience, social values, visitor and employee health and safety, soundscapes, socioeconomic conditions, and National Lakeshore management and operations.

Dated: March 26, 2012.
Michael T. Reynolds,
Regional Director, Midwest Region.

[FR Doc. 2012-9972 Filed 4-24-12; 8:45 am]

BILLING CODE 4310-FH-P